FEDERAL COMMUNICATIONS COMMISSION

47 CFR Part 73

[DA 01-255; MM Docket No. 00-123; RM-9903]

Radio Broadcasting Services; Rincon, PR

AGENCY: Federal Communications Commission.

ACTION: Proposed rule; denial.

SUMMARY: The Commission denies the request of Ocean Communications to allot Channel 300B to Rincon, PR, as its first local aural service. See 65 FR 44507, July 18, 2000. The proposed transmitter site is located within the Desecheo National Wildlife Refuge and the Fish and Wildlife Service, U.S. Department of the Interior, has stated that it is unlikely that it would favorably consider a request to erect a tower there.

FOR FURTHER INFORMATION CONTACT: Leslie K. Shapiro, Mass Media Bureau, (202) 418-2180.

SUPPLEMENTARY INFORMATION: This is a synopsis of the Commission's Report and Order, MM Docket No. 00-123, adopted January 24, 2001, and released February 2, 2001. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

Federal Communications Commission.
John A. Karousos,
Chief, Allocations Branch, Policy and Rules Division, Mass Media Bureau.

[FR Doc. 01-3962 Filed 2-15-01; 8:45 am]

BILLING CODE 6712-01-P